DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains in the possession of the Field Museum of Natural History, Chicago, IL. The human remains were removed from the Channel Islands in Santa Barbara and Los Angeles Counties, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Field Museum of Natural History professional staff in consultation with representatives of the Santa Ynez Band of Chumash Mission Indians of the Santa Ynez Reservation, California.

On an unknown date, human remains were removed from San Miguel Island, Santa Barbara County, CA. In 1893, human remains representing a minimum of six individuals from that removal were purchased by the Field Museum of Natural History from Ward's Natural Science Establishment of Rochester, NY (Field Museum of Natural History catalog numbers 42700-42703, accession number 407). The human remains were accessioned into the Field Museum of Natural History the same year. No known individuals were identified. No associated funerary objects are present.

On an unknown date, human remains were removed from San Miguel Island, Santa Barbara County, CA. In 1894, the Field Museum of Natural History purchased human remains representing a minimum of one individual from that removal from Franz Boas (Field Museum of Natural History catalog number 42704, accession number 68). The human remains were accessioned into the Field Museum of Natural History the same year. No known individual was identified. No associated funerary objects are present.

In 1897, human remains were removed from San Nicolas Island, Santa Barbara County, CA, by A.B. Chappell. Later that year, the Field Museum of Natural History purchased human remains representing a minimum of one individual from that removal from A.B. Chappell (Field Museum of Natural History catalog number 42705, accession number 522). The human remains were accessioned into the Field Museum of Natural History the same year. No known individual was identified. No associated funerary objects are present.

In 1904, F.H. Sellers donated human remains representing a minimum number of two individuals to the Field Museum of Natural History (Field Museum of Natural History catalog numbers 42715 and 42716, accession number 867). The human remains were accessioned into the Field Museum of Natural History the same year. Field Museum records indicate the locality of removal as “Probably Channel Isl., California.” No known individuals were identified. No associated funerary objects are present.

In 1932, the Field Museum of Natural History received human remains representing a minimum number of one individual as part of an exchange with Byron Knoblock (Field Museum of Natural History catalog number 42860, accession 1964). Field Museum records indicate that the human remains came from Santa Catalina Island, Los Angeles County, CA. No known individual was identified. No associated funerary objects are present.

At an unknown date, the Field Museum of Natural History acquired human remains representing a minimum of three individuals from Santa Catalina Island, Los Angeles County, CA, from an unknown source (Field Museum of Natural History catalog number 42706, accession 3910). In 1995, the human remains were located in the collections of the Field Museum of Natural History and were accessioned the same year. No known individuals were identified. No associated funerary objects are present.

The human remains have been identified as Native American, based on craniometric analysis and the specific cultural and geographic attribution in Field Museum of Natural History records. Archeological investigations have identified a cultural continuity for the Chumash Indians that traces their presence on the northern Channel Islands back 7,000 to 9,000 years. Geographical, archeological, and oral history evidence indicate a shared group identity between these human remains from San Miguel, San Nicolas, and Santa Catalina Islands and the Santa Ynez Band of Chumash Mission Indians of the Santa Ynez Reservation, California, the present-day tribe most closely associated with the prehistoric and historic Chumash Indians.

Officials of the Field Museum of Natural History have determined that, pursuant to 25 U.S.C. 3001 (9-10), the human remains described above are reasonably believed to be the physical remains of 14 individuals of Native American ancestry. Officials of the Field Museum of Natural History also have determined that, pursuant to 25 U.S.C. 3001 (2), there is a relationship of shared group identity that can be reasonably traced between the Native American human remains and the Santa Ynez Band of Chumash Mission Indians of the Santa Ynez Reservation, California.

Representatives of any other Indian tribe that believes itself to be culturally affiliated with the human remains should contact Helen Robbins, Repatriation Director, Field Museum of Natural History, 1400 S. Lake Shore Drive, Chicago, IL 60605, telephone (312) 665-7317, before February 4, 2010. Repatriation of the human remains to the Santa Ynez Band of Chumash Mission Indians of the Santa Ynez Reservation, California may proceed after that date if no additional claimants come forward.

The Field Museum of Natural History is responsible for notifying the Santa Ynez Band of Chumash Mission Indians of the Santa Ynez Reservation, California that this notice has been published.

Dated: November 19, 2009
Sherry Hutt,
Manager, National NAGPRA Program.

[FR Doc. E9-31224 Filed 1-4-10; 8:45 am]

BILLING CODE 4312-50-S